DEPARTMENT OF THE TREASURY

Office of Foreign Assets Control

Sanctions Actions Pursuant to the Foreign Narcotics Kingpin Designation Act or Executive Order 12978

AGENCY: Office of Foreign Assets Control, Department of the Treasury.

ACTION: Notice.

SUMMARY: The U.S. Department of the Treasury's Office of Foreign Assets Control (OFAC) is publishing the names of persons whose property and interests in property have been unblocked pursuant to the Foreign Narcotics Kingpin Designation Act (Kingpin Act) or Executive Order 12978 of October 21, 1995, “Blocking Assets and Prohibiting Transactions With Significant Narcotics Traffickers”. Additionally, OFAC is publishing an update to the identifying information of persons currently included in the list of Specially Designated Nationals and Blocked Persons (SDN List).

DATES: OFAC's actions described in this notice were effective on June 14, 2017.

FOR FURTHER INFORMATION CONTACT:

OFAC: Associate Director for Global Targeting, tel: 202-622-2420; Assistant Director for Licensing, tel.: 202-622-2480, Assistant Director for Regulatory Affairs, tel.: 202-622-4855, Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's Web site at http://www.treasury.gov/ofac.

Notice of OFAC Actions

On June 14, 2017, OFAC removed from the SDN List the persons listed below, whose property and interests in property were blocked pursuant to the Kingpin Act or Executive Order 12978.

Individuals

1. SABOGAL ZULUAGA, Orlando (a.k.a. CONTRERAS VIVAS, Juan Pablo; a.k.a. GUILLEN JIMENEZ, Carlos Alberto; a.k.a. SABOGAL, Alberto; a.k.a. SALAZAR QUINTERO, Carlos Alberto; a.k.a. “CAREQUESO”; a.k.a. “EL MONO SABOGAL”), c/o ORLANDO SABOGAL ZULUAGA E HIJOS & CIA S EN C, Colombia; Calle 18 No. 5N-21, Apt. 302, Cartago, Colombia; Paseo 5 de Julio, Barrio Libertad, Municipio Bolivar, Tachira, Venezuela; Caracas, Venezuela; Paseo 5 de Julio, Barrio Libertad, San Antonio, Tachira, Venezuela; Calle 30 No. 3B-45, La Campina, Pereira, Risaralda, Colombia; Calle 14 No. 30-153, Medellin, Antioquia, Colombia; DOB 22 Feb 1966; alt. DOB 16 Sep 1965; POB Toro, Valle, Colombia; Cedula No. 18505378 (Colombia); alt. Cedula No. 21171060 (Venezuela); alt. Cedula No. 12773520 (Venezuela); alt. Cedula No. 94318435 (Colombia); Passport AE533626 (Colombia); alt. Passport AG496255 (Colombia); alt. Passport 18505378 (Colombia); alt. Passport AC635727 (Colombia) (individual) [SDNT].

2. CALLE QUIROS, Luis Santiago, Madrid, Spain; Lima, Peru; DOB 22 Jul 1965; POB Madrid, Spain; citizen Spain; alt. citizen Peru; D.N.I. 01927713-Z (Spain); alt. D.N.I. 10831176-8 (Peru) (individual) [SDNTK] (Linked To: TEXTIMAX SPAIN S.L.; Linked To: CASTIZAL MADRILENA S.L.; Linked To: INMOBILIARIA CASTIZAL S.A.C.; Linked To: UCALSA PERU S.A.).

3. JIMENEZ URREGO, Luz Marina, c/o C.I. STONES AND BYPRODUCTS TRADING S.A., Bogota, Colombia; c/o C.I. AGROINDUSTRIAL DE MATERIAS PRIMAS ORGANICAS LTDA, Bogota, Colombia; c/o MERCADO DE VALORES INTEGRADOS LTDA, Bogota, Colombia; c/o JUAN SEBASTIAN Y CAMILA ANDREA JIMENEZ RAMIREZ Y CIA S.C.S., Bogota, Colombia; c/o COMUNICACIONES ELYON, Bogota, Colombia; DOB 05 Feb 1962; citizen Colombia; Cedula No. 39526273 (Colombia); Passport AJ582409 (Colombia) (individual) [SDNTK].

4. FAJARDO HERNANDEZ, Gloria Elena, c/o AGROPECUARIA EL NILO S.A., La Union, Valle, Colombia; c/o INDUSTRIAS DEL ESPIRITU SANTO S.A., Malambo, Atlantico, Colombia; c/o DOXA S.A., La Union, Valle, Colombia; c/o FUNDACION CENTRO DE INVESTIGACION HORTIFRUTICOLA DE COLOMBIA, La Union, Valle, Colombia; Cedula No. 29926353 (Colombia) (individual) [SDNT].

5. GALLEGO ORREGO, Margarita Zulay; DOB 18 Oct 1953; POB Yolombo, Antioquia, Colombia; citizen Colombia; Cedula No. 32334460 (Colombia) (individual) [SDNTK] (Linked To: ENVIGADO FUTBOL CLUB S.A.; Linked To: CAFETERIA ENVICENTRO; Linked To: TIENDAS MARGOS).

Entities

1. C.I. AGROINDUSTRIAL DE MATERIAS PRIMAS ORGANICAS LTDA (a.k.a. C.I. PRORGANICAS LTDA), Calle 24D Bis No. 73C-03, Bogota, Colombia; NIT # 830025144-1 (Colombia) [SDNTK].

2. C.I. OTILIA FLOWERS S.A., Vereda Las Manas, Finca La Estancia, Cajica, Cundinamarca, Colombia; Carrera 11 No. 94-02 Ofc. 405, Bogota, Colombia; NIT # 800207350-5 (Colombia) [SDNT].

3. CAFETERIA ENVICENTRO, Carrera 48 No. 49 Sur 45, Envigado, Antioquia, Colombia; Matricula Mercantil No 138589 (Aburra Sur) [SDNTK].

4. CASTIZAL MADRILENA S.L., Calle Julian Camarillo 47, B 103, Madrid 28037, Spain; C.I.F. B97800221 (Spain) [SDNTK].

5. COMUNICACIONES ELYON, Carrera 9 No. 22-59 Loc. 14, Bogota, Colombia; Matricula Mercantil No 1579615 (Colombia) [SDNTK].

6. CONSTRUCTORA IRAKA S.A., Carrera 7 No. 132-82, Bogota, Colombia; NIT # 830111113-1 (Colombia) [SDNT].

7. INMOBILIARIA CASTIZAL S.A.C., Avenida 28 de Julio, No. 562 Int. A, Miraflores, Lima, Peru; RUC # 20492694631 (Peru) [SDNTK].

8. JUAN SEBASTIAN Y CAMILA ANDREA JIMENEZ RAMIREZ Y CIA S.C.S., Calle 24D Bis No. 73C-03, Bogota, Colombia; NIT # 830092190-6 (Colombia) [SDNTK].

9. MERCADO DE VALORES INTEGRADOS LTDA (a.k.a. VALINTEGRADOS LTDA), Calle 24D Bis No. 73C-03, Bogota, Colombia; NIT # 830034151-1 (Colombia) [SDNTK].

10. ORLANDO SABOGAL ZULUAGA E HIJOS & CIA S EN C (a.k.a. ORLANDO SABOGAL ZULUAGA E HIJOS AND CIA S EN C), Hacienda Portugal, Ansermanuevo, Valle, Colombia; NIT # 800181393-7 (Colombia) [SDNT].

11. PARQUE INDUSTRIAL PROGRESO S.A., Autopista Cali Yumbo, Km. 4 No. 26-400, Yumbo, Colombia; NIT # 805002419-1 (Colombia) [SDNT].

12. TEXTIMAX SPAIN S.L., Calle Julian Camarillo 47, Madrid 28037, Spain; C.I.F. B84639962 (Spain) [SDNTK].

13. TIENDAS MARGOS (a.k.a. “MARGO'S”), Calle 38A Sur No. 43A 41, Envigado, Antioquia, Colombia; Matricula Mercantil No 5352 (Aburra Sur) [SDNTK].

14. UCALSA PERU S.A., Lima, Peru; RUC # 20451702760 (Peru) [SDNTK].

Additionally, on June 14, 2017, OFAC updated the SDN List for the persons listed below, whose property and interests in property continue to be blocked pursuant to the Kingpin Act.

Individual

1. JIMENEZ URREGO, Blanca Virginia, c/o JUAN SEBASTIAN Y CAMILA ANDREA JIMENEZ RAMIREZ Y CIA S.C.S., Bogota, Colombia; DOB 29 May 1960; citizen Colombia; Cedula No. 21030774 (Colombia) (individual) [SDNTK].

-to-

JIMENEZ URREGO, Blanca Virginia, Bogota, Colombia; DOB 29 May 1960; citizen Colombia; Cedula No. 21030774 (Colombia) (individual) [SDNTK].

Entity

1. SOHO PANAMA, S.A. (a.k.a. SOHO MALL PANAMA), Calle 50 (entre Calle 54 y 56), Panama, Panama; RUC # 2422734-1-808115 (Panama) [SDNTK].

-to-

SOHO PANAMA, S.A.; RUC # 2422734-1-808115 (Panama) [SDNTK].

Dated: June 14, 2017.
Mark Samara,
Acting Associate Director, Office of Global Targeting, Office of Foreign Assets Control.

[FR Doc. 2017-12899 Filed 6-19-17; 8:45 am]

BILLING CODE 4810-AL-P